DEPARTMENT OF JUSTICE

Notice of Lodging Proposed Consent Decree

In accordance with Departmental Policy, 28 CFR 50.7, notice is hereby given that a proposed Partial Consent Decree in United States v. Paul Bunn, et al., Civil Action No. 9:20-cv-00107-DLC-KLD, was lodged with the United States District Court for the District of Montana on June 29, 2021.

This proposed Partial Consent Decree concerns a complaint filed by the United States against Paul Bunn, pursuant to Section 309 of the Clean Water Act, 33 U.S.C. 1319, to obtain injunctive relief and impose civil penalties against Mr. Bunn for violating the Clean Water Act by discharging pollutants without a permit into waters of the United States. The proposed Partial Consent Decree resolves these allegations by requiring Mr. Bunn to restore the impacted areas and to pay a civil penalty.

The Department of Justice will accept written comments relating to this proposed Partial Consent Decree for thirty (30) days from the date of publication of this Notice. Please address comments to Alan Greenberg, United States Department of Justice, Environment and Natural Resources Division, Environmental Defense Section, 999 18th Street, Suite 370, Denver, CO 80202, pubcomment_eds.enrd@usdoj.gov, and refer to United States v. Paul Bunn, et al., DJ # 90-5-1-1-20880.

The proposed Partial Consent Decree may be examined at the Clerk's Office, United States District Court for the District of Montana, Russell Smith Federal Courthouse, 201 East Broadway, Missoula, MT 59802. In addition, the proposed Partial Consent Decree may be examined electronically at http://www.justice.gov/enrd/consent-decrees.

Cherie Rogers,
Assistant Section Chief, Environmental Defense Section, Environment and Natural Resources Division.

[FR Doc. 2021-14353 Filed 7-2-21; 8:45 am]

BILLING CODE 4410-15-P